FEDERAL COMMUNICATIONS COMMISSION

47 CFR Parts 73 and 76

[MB Docket No. 19-177; FCC 19-721]

Review of EEO Compliance and Enforcement in Broadcast and Multichannel Video Programming Industries

AGENCY: Federal Communications Commission.

ACTION: Proposed rule.

SUMMARY: This document announces that the Federal Communications Commission granted a motion filed by the Multicultural Media, Telecom and internet Council (MMTC) in MB Docket No. 19-177 to extend the deadlines for filing comments and replies in response to the Commission's document on possible improvements to equal employment opportunity (EEO) compliance and enforcement.

DATES: Comments Due: September 20, 2019. Replies Due: November 4, 2019.

ADDRESSES: Electronic Filers: Comments may be filed electronically using the internet by accessing the ECFS: http://apps.fcc.gov/ecfs/.

Paper Filers: Parties who choose to file by paper must file an original and one copy of each filing.

• Filings can be sent by hand or messenger delivery, by commercial overnight courier, or by first-class or overnight U.S. Postal Service mail. All filings must be addressed to the Commission's Secretary, Office of the Secretary, Federal Communications Commission.

• All hand-delivered or messenger-delivered paper filings for the Commission's Secretary must be delivered to FCC Headquarters at 445 12th St. SW, Room TW-A325, Washington, DC 20554. The filing hours are 8:00 a.m. to 7:00 p.m. All hand deliveries must be held together with rubber bands or fasteners. Any envelopes and boxes must be disposed of before entering the building.

• Commercial overnight mail (other than U.S. Postal Service Express Mail and Priority Mail) must be sent to 9050 Junction Drive, Annapolis Junction, MD 20701.

• U.S. Postal Service first-class, Express, and Priority mail must be addressed to 445 12th Street SW, Washington, DC 20554.

For detailed instructions on submitting comments and replies and additional information on the rulemaking process, see the Commission's Proposed Rule, MB Docket No. 19-177, FCC 19-54, adopted June 12, 2019, and released June 21, 2019.

FOR FURTHER INFORMATION CONTACT: Radhika Karmarkar, Industry Analysis Division, Media Bureau, Radhika.Karmarkar@fcc.gov, (202) 418-1523.

SUPPLEMENTARY INFORMATION: This document summarizes the Media Bureau's Order in MB Docket No. 19-177 which was adopted and released July 30, 2019. On July 25, 2019, MMTC filed a motion requesting an extension of time to file comments and replies until September 20, 2019, and November 4, 2019, respectively in response to the Commission's Proposed Rule in MB Docket No. 19-177, FCC 19-54 (rel. June 21, 2019), 84 FR 35063, July 22, 2019. For good cause shown, the Media Bureau, pursuant to delegated authority, granted the motion. Comments were originally due August 21, 2019, and replies were due September 5, 2019. Grant of the MMTC's request makes comments now due on September 20, 2019 and replies due on November 4, 2019. This proceeding is treated as “permit-but-disclose” for purposes of the Commission's ex parte rules. See generally 47 CFR 1.200-1.216. As a result of the permit but disclose status, ex parte presentations will be governed by the procedures set forth in Section 1.1206 of the Commission's rules applicable to non-restricted proceedings. The full text of the Media Bureau's Order in Docket No. 19-177 is available electronically at https://ecfsapi.fcc.gov/file/0730148503545/DA-19-721A1.pdf.

People With Disabilities. To request materials in accessible formats for people with disabilities (Braille, large print, electronic files, audio format), send an email to fcc504@fcc.gov or call the Consumer and Governmental Affairs Bureau at 202-418-0530 (voice), 202-418-0432 (TTY).

Federal Communications Commission.
Marlene Dortch,
Secretary.

[FR Doc. 2019-18231 Filed 8-22-19; 8:45 am]

BILLING CODE 6712-01-P